DEPARTMENT OF COMMERCE

National Oceanic and Atmospheric Administration

RIN 0648-XD349

Atlantic Highly Migratory Species; Atlantic Bluefin Tuna Fisheries

AGENCY: National Marine Fisheries Service (NMFS), National Oceanic and Atmospheric Administration (NOAA), Commerce.

ACTION: Notice of receipt of an application for an exempted fishing permit; request for comments.

SUMMARY: NMFS has made a preliminary determination that an application for an Exempted Fishing Permit (EFP) warrants further consideration and an opportunity for public comment. The application was submitted by the owner and operator of an Atlantic tunas Purse Seine category-permitted vessel, requesting an exemption from annual incidental purse seine retention limit on the harvest of large medium Atlantic bluefin tuna (BFT) (i.e., measuring 73 to less than 81 inches curved fork length). The applicants propose that NMFS, through issuance of the EFP, assess the possibility of reducing regulatory discards related to this limit to increase the likelihood of harvesting the vessel's individual purse seine vessel BFT quota and the category subquota overall. NMFS is interested in assessing this possibility consistent with the purposes of EFPs and the associated data that could be gathered through such an EFP and requests public comment on the information provided in this notice and the application submitted.

DATES: Comments must be received by July 21, 2014.

ADDRESSES: You may submit comments on this notice, identified by 0648-XD349, by any one of the following methods:

• Email: NMFS.PSEFP.2014@noaa.gov.

• Mail: Margo Schulze-Haugen, Highly Migratory Species Management Division (F/SF1), NMFS, 1315 East-West Highway, Silver Spring, MD 20910. Please mark the outside of the envelope “Comments on 2014 purse seine EFP application.”

FOR FURTHER INFORMATION CONTACT: A copy of the application can viewed at the following Web site: http://www.nmfs.noaa.gov/sfa/hms/news/breaking_news.html; or by contacting Craig Cockrell, Highly Migratory Species Management Division, NMFS, (301) 427-8503.

SUPPLEMENTARY INFORMATION: NMFS published a notice of intent to issue EFPs, Scientific Research Permits, Letters of Acknowledgement, and Chartering Permits for Atlantic highly migratory species (HMS) in 2014 (78 FR 69823, November 21, 2013). Although that notice anticipated a variety of applications, it stated that occasionally NMFS receives applications for activities that were not anticipated at the time of the general notice and that NMFS would provide additional opportunity for public comment if that were to occur.

As discussed in the November 2013 notice of intent to issue EFPs and other permits, issuance of EFPs and related permits are necessary for the collection of HMS for public display and scientific research to exempt them from specified regulations (e.g., fishing seasons, prohibited species, authorized gear, closed areas, and minimum sizes) that may otherwise prohibit such collection. Specifically, NMFS may authorize activities otherwise prohibited by the regulations at 50 CFR part 635 for the conduct of scientific research; the acquisition of information and data; the enhancement of safety at sea; the purpose of collecting animals for public education or display; the investigation of bycatch, economic or regulatory discard; or for chartering arrangements. See 50 CFR 635.32(a)(1). The terms and conditions of individual permits are unique; however, all permits include reporting requirements, limit the number and species of HMS to be collected, and only authorize collection in Federal waters of the Atlantic Ocean, Gulf of Mexico, and Caribbean Sea. EFPs and related permits are issued under the authority of the Magnuson-Stevens Fishery Conservation and Management Reauthorization Act (Magnuson-Stevens Act) (16 U.S.C. 1801 et seq.) and/or the Atlantic Tunas Convention Act (ATCA) (16 U.S.C. 971 et seq.). Regulations at 50 CFR 600.745 and 635.32 govern exempted fishing permits, as well as scientific research activity, chartering arrangements, and exempted public display and educational activities.

Current Atlantic HMS regulations specify that persons aboard a vessel permitted in the Atlantic Tunas Purse Seine category “may retain, possess, land, or sell large medium BFT in amounts not exceeding 15 percent, by weight, of the total amount of giant BFT landed during that fishing year.” See 50 CFR 635.23(e)(1). As a result, Purse Seine category vessels may discard large medium BFT to reduce the risk of exceeding the annual purse seine retention limit. This has the effect of focusing effort in the purse seine fishery on giant BFT but may also result in dead discards of the smaller BFT. The retention limits that apply to most commercial categories allow the retention of large medium BFT.

In the Draft Amendment 7 to the 2006 Consolidated Atlantic HMS Fishery Management Plan (2006 Consolidated HMS FMP), NMFS considered but did not further analyze the possibility of altering this limit. Although there has been past interest in altering this limit, e.g., the issue was raised in the comments on the 2006 Consolidated HMS FMP, this alternative was not considered further in the DEIS because there were few data available to determine whether such a change might be warranted or the impacts of such a change given recent low catch/landings from the Purse Seine category.

Data are now available on dead discards by size relative to retained catch for the Purse Seine category from the 2013 fishing year, reflecting dead discards for the smaller size categories. NMFS believes that additional analysis about the potential benefits of altering the limit, both by reducing dead discards and improving the Purse Seine category's opportunity to harvest its subquota, may be warranted and beneficial to the stock and the fishery. Additional data are needed to conduct such analyses and to make fishery management decisions. An EFP would allow NMFS to collect and review such additional data regarding the annual incidental purse seine retention limit by allowing the applicant to fish for commercial sized BFT in 2014, without the limit on large medium BFT, to determine the capability of reducing regulatory discards related to this restriction and harvesting the vessel's individual quota. An EFP, if issued, would expire on December 31, 2014. Among the purposes of EFPs in the regulations (at 50 CFR 635.32(a)(1)) are “the investigation of bycatch, economic discard and regulatory discard,” and such an EFP would be in furtherance of those purposes.

NMFS specifically invites comment on potential terms and conditions if such an EFP were to be issued, including the following:

• The appropriate level of observer coverage for permitted trips. Currently, NMFS places observers on purse seine vessels via the Northeast Fishery Observer Program consistent with the HMS regulations and Recommendation 10-10 of the International Commission for the Conservation of Atlantic Tunas (Recommendation by ICCAT to Establish Minimum Standards for Fishing Vessel Observer Programs) that there be a minimum of 5 percent observer coverage of purse seine fishing effort (as measured in number of sets or trips), among other things.

• The appropriate number of trips or tonnage that should be authorized. Under the BFT regulations, individual Purse Seine category permitted vessels' BFT quotas may be combined and transferred for use by one vessel, the 2014 codified purse seine category quota of 171.8 mt would be the upper limit on potential retention under this EFP. All BFT catch, including dead discards and landings, would count toward this quota.

• The appropriate timing of such trips. Currently, the Purse Seine category opens July 15 of each year and closes December 31.

• All BFT would be available for measurement and biological sampling or other specified research activity as appropriate.

Analysis of Impacts to BFT

NMFS largely considers the effects of this EFP, if issued, to have been analyzed in previous analyses that considered the overall U.S. quota and subquotas as set out in the 2006 Consolidated HMS FMP and subsequent environmental analyses for the annual BFT specifications process.

Exemption from the limit on large medium BFT would provide harvest flexibility within the existing individual purse seine vessel quota(s). The exemption would affect the size of BFT that could be retained and landed, but NMFS does not expect that it would significantly alter fishing practices, given the short duration of the fishing activity, the limited number of vessels fishing, and other limits that would be placed on the EFP. The maximum amount of BFT that could be harvested would remain constrained at its upper limit to 171.8 mt, the total for the category, which could be authorized for one vessel if all individual vessel quotas were appropriately combined. NMFS does not anticipate authorizing the full category quota for harvest under this EFP but notes the maximum possible retention for the purposes of assessing potential impacts. For this quota level, the effects were analyzed within existing environmental assessment documents. Thus, activities under this EFP would not affect the total amount of BFT allowed to be harvested, limited by the ICCAT-recommended U.S. quota (which has been established consistent with ICCAT's western Atlantic BFT rebuilding program) and by the associated Purse Seine category subquota. Issuance of this EFP would not be expected to affect BFT stock health or rebuilding in ways not previously analyzed for the existing quotas and specifications. Nor would NMFS expect the size selectivity of the western Atlantic BFT fishery to change. Existing BFT management measures, including the ICCAT rebuilding program, are based on total allowable catch (in weight) and assume that the pattern of fishing mortality (e.g., fish caught at each age, also known as size selectivity of the fishery) will not change dramatically. As long as the U.S. quota is not exceeded and there is no significant change in fishery selectivity, issuance of an EFP would not be expected to have effects beyond those already analyzed.

Collection of data regarding BFT released during the permitted purse seine fishing activity could improve monitoring and accounting of BFT discards and would inform future, potential regulatory actions. All BFT mortalities resulting from this EFP would be counted against the applicant's individual Purse Seine category quota and would be within the overall, previously-analyzed quota for the category. Dead discards of all BFT less than 73 inches would be counted against the vessel's quota. No live BFT less than 73 inches would be lethally sampled during fishing operations under this EFP.

NMFS' analysis of bycatch in the purse seine fishery has found dead discards to be limited to tunas (76 FR 39019, July 5, 2011). The applicant does not anticipate interactions with protected species or marine mammals.

Final decisions on the issuance of this EFP will depend on the submission of all required information about the proposed activities, NMFS' review of public comments received on this notice, any prior violations of marine resource laws administered by NOAA, consistency with relevant NEPA documents, and any consultations with appropriate Regional Fishery Management Councils, states, or Federal agencies. NMFS does not anticipate any significant environmental impacts from the issuance of this EFP as assessed in the 1999 FMP (64 FR 29090, May 28, 1999), the 2006 Consolidated HMS FMP (71 FR 58058, October 2, 2006) and its amendments, the 2011 final rule implementing the BFT quotas and Atlantic tuna fisheries management measures (76 FR 39019, July 5, 2011), and the 2013 BFT Quota Specifications (78 FR 36685, June 19, 2013).

NMFS finds this application warrants further consideration. The agency may impose possible conditions on this EFP, if it is granted, based on consideration of public comments and further analyses. Reports on the fishing would be due at the conclusion of fishing trips, and summary a report 30 days from the expiration of the EFP, if issued, to be submitted to NMFS.

NMFS requests comments and offers a 21-day comment period on this notice, consistent with EFP regulations at 600.45. The 21-day comment period balances the need to give the public an opportunity to comment with the fact that the Purse Seine category season starts July 15 and that further delay in any EFP issuance would reduce the time available to harvest the fish as permitted, and the ability for NMFS to gather useful information about normal operations during a typical purse seine season.

Authority: 16 U.S.C. 971 et seq. and 1801 et seq.

Dated: June 25, 2014.
Alan D. Risenhoover,
Director, Office of Sustainable Fisheries, National Marine Fisheries Service.

[FR Doc. 2014-15269 Filed 6-27-14; 8:45 am]

BILLING CODE 3510-22-P